DEPARTMENT OF COMMERCE

National Oceanic and Atmospheric Administration

Ocean Exploration Advisory Board (OEAB)

AGENCY: Office of Oceanic and Atmospheric Research (OER) National Oceanic and Atmospheric Administration (NOAA) Department of Commerce (DOC).

ACTION: Notice of Membership Solicitation for the OEAB.

SUMMARY: OAR publishes this notice to solicit applications to fill a single membership vacancy on the Ocean Exploration Advisory Board (OEAB) with an individual demonstrating expertise in data science and management and one other area of expertise relevant to ocean exploration, such as seafloor mapping. The new OEAB member will serve an initial three-year term, renewable once.

The purpose of the OEAB is to advise the Under Secretary of Commerce for Oceans and Atmosphere on matters pertaining to ocean exploration including: The identification of priority areas that warrant exploration; the development and enhancement of technologies for exploring the oceans; managing the data and information; and disseminating the results. The OEAB also provides advice on the relevance of the program with regard to the NOAA Strategic Plan, the National Ocean Policy Implementation Plan, and other appropriate guidance documents.

APPLICATIONS: An application is required to be considered for OEAB membership. To apply, please submit (1) full name, title, institutional affiliation, and contact information (mailing address, email, telephones, fax); (2) a short description of his/her qualifications relative to data science and management, and at least one other area of expertise related to ocean exploration; (3) a resume or curriculum vitae (maximum length 4 pages); and (4) A cover letter stating their interest in serving on the OEAB and highlighting specific areas of expertise relevant to the purpose of the OEAB.

DATES: Application materials should be sent to the mailing or email address specified below and must be received no later than 15 days after publication of this Federal Register Notice.

ADDRESSES: Submit resume and application materials to Yvette Jefferson via mail or email. Mail: NOAA, 1315 East West Highway, SSMC3 Rm 10315, Silver Spring, MD 20910; Email: Yvette.Jefferson@noaa.gov.

FOR FURTHER INFORMATION CONTACT: David McKinnie, OEAB Designated Federal Officer, NOAA/OER, 7600 Sand Point Way NE., Seattle, WA 98115; 206-526-6950; david.mckinnie@noaa.gov.

SUPPLEMENTARY INFORMATION: The OEAB functions as an advisory body in accordance with the Federal Advisory Committee Act (FACA), as amended, 5 U.S.C. App., with the exception of section 14. It reports to the Under Secretary, as directed by 33 U.S.C. 3405.

The OEAB consists of approximately ten members including a Chair and Co-chair(s), designated by the Under Secretary in accordance with FACA requirements and the terms of the approved OEAB Charter.

The OEAB:

a. advises the Under Secretary on all aspects of ocean exploration including areas, features, and phenomena that warrant exploration; and other areas of program operation, including development and enhancement of technologies for exploring the ocean, managing ocean exploration data and information, and disseminating the results to the public, scientists, and educators;

b. assists the program in the development of a 5-year strategic plan for the fields of ocean, marine, and Great Lakes science, exploration, and discovery, as well as makes recommendations to NOAA on the evolution of the plan based on results and achievements;

c. annually reviews the quality and effectiveness of the proposal review process established under [correct]; and

d. provides other assistance and advice as requested by the Under Secretary.

OEAB members are appointed as special government employees (SGEs) and will be subject to the ethical standards applicable to SGEs. Members are reimbursed for actual and reasonable expenses incurred in performing such duties but will not be reimbursed for their time. All OEAB members serve at the discretion of the Under Secretary.

The OEAB meets three to four times each year, exclusive of subcommittee, task force, and working group meetings.

As a Federal Advisory Committee, the OEAB's membership is required to be balanced in terms of viewpoints represented and the functions to be performed as well as including the interests of geographic regions of the country and the diverse sectors of our society.

For more information about the OEAB, please visit oeab.noaa.gov.

OER BACKGROUND: NOAA's Office of Ocean Exploration and Research is part of the NOAA Office of Ocean Exploration and Research. OER's mission is to explore the ocean for national benefit.

OER:

e. Explores the ocean to make discoveries of scientific, economic, and cultural value, with priority given to the U.S. Exclusive Economic Zone and Extended Continental Shelf;

f. Promotes technological innovation to advance ocean exploration;

g. Provides public access to data and information;

h. Encourages the next generation of ocean explorers, scientists, and engineers; and,

i. Expands the national ocean exploration program through partnerships.

For more information about the Office of Ocean Exploration and Research please visit oceanexplorer.noaa.gov.

Dated: November 21, 2016.
Jason Donaldson,
Chief Financial Officer and Chief Administrative Officer, Office of Oceanic and Atmospheric Research, National Oceanic and Atmospheric Administration.

[FR Doc. 2016-28594 Filed 11-28-16; 8:45 am]

BILLING CODE 3510-KA-P